DEPARTMENT OF COMMERCE

National Oceanic and Atmospheric Administration

50 CFR Part 635

[Docket No. 240916-0238]

RIN 0648-BN13

Atlantic Highly Migratory Species; Adjustments to the 2024 North Atlantic Albacore Tuna, North and South Atlantic Swordfish, and Atlantic Bluefin Tuna Reserve Category Quotas

AGENCY: National Marine Fisheries Service (NMFS), National Oceanic and Atmospheric Administration (NOAA), Commerce.

ACTION: Final rule; temporary quota adjustment.

SUMMARY: NMFS modifies the baseline annual U.S. North Atlantic albacore tuna (northern albacore) quota, effective until changed, in accordance with the baseline quota adjustment process. NMFS also adjusts the 2024 baseline quotas for U.S. North Atlantic albacore tuna (northern albacore), North and South Atlantic swordfish, and the Atlantic bluefin tuna Reserve category based on the 2023 underharvest and applicable international quota transfer. These temporary adjustments are effective through December 31, 2024. Full annual baseline allocations will be available to U.S. harvesters starting January 1, 2025. These actions are necessary to implement recommendations of the International Commission for the Conservation of Atlantic Tunas (ICCAT) as required by the Atlantic Tunas Convention Act (ATCA), and to achieve domestic management objectives under the Magnuson-Stevens Fishery Conservation and Management Act (Magnuson-Stevens Act).

DATES: The final rule is effective September 20, 2024. The temporary quota adjustments are effective September 20, 2024, through December 31, 2024.

ADDRESSES: Supporting documents, including environmental assessments and environmental impact statements, as well as the 2006 Consolidated Atlantic HMS Fishery Management Plan (FMP) and its amendments, may be downloaded from the Highly Migratory Species (HMS) website at https://www.fisheries.noaa.gov/topic/atlantic-highly-migratory-species. These documents also are available upon request from Anna Quintrell or Steve Durkee at the email addresses and telephone numbers below.

FOR FURTHER INFORMATION CONTACT: Anna Quintrell (301-427-8503, anna.quintrell@noaa.gov) or Steve Durkee (301-427-8503, steve.durkee@noaa.gov).

SUPPLEMENTARY INFORMATION: Atlantic HMS northern albacore, swordfish, and bluefin tuna fisheries, are managed under the authority of ATCA (16 U.S.C. 971 et seq.) and the Magnuson-Stevens Act (16 U.S.C. 1801 et seq.). The HMS FMP and its amendments are implemented by regulations at 50 CFR part 635. Section 635.27(a) implements the ICCAT-recommended quota and describes the annual quota adjustment process for bluefin tuna. Section 635.27(c) implements the ICCAT-recommended quotas and describes the quota adjustment process for both North and South Atlantic swordfish. Section 635.27(e) implements the northern albacore annual quota recommended by ICCAT and describes the annual northern albacore quota adjustment process. NMFS is required under the Magnuson-Stevens Act to provide U.S. fishing vessels with a reasonable opportunity to harvest quotas under relevant international fishery agreements such as the International Convention for the Conservation of Atlantic Tunas, which is implemented domestically pursuant to ATCA.

Note that, consistent with how the quotas are established, weight information for northern albacore and bluefin tuna below is shown in metric tons (mt) whole weight (ww), and weight information for swordfish is shown in both dressed weight (dw) and ww.

Northern Albacore Annual Quota and Adjustment Process

As described below, in accordance with the recent ICCAT Recommendation 23-05, this final rule sets the U.S. allocation and annual baseline quota for northern albacore at 889.4 mt NOAA conducted the analysis supporting this rule and described the findings in the Environmental Assessment (EA). This final rule further adjusts that baseline quota to 1,067.3 mt for 2024 based on an underharvest of the 2023 adjusted quota.

At its 2021 annual meeting, under Recommendation 21-04, ICCAT adopted a management procedure for northern albacore. The management procedure was domestically implemented via a 2022 final rule (87 FR 33049, June 1, 2022). At that time, NMFS considered different quota alternatives in an environmental assessment (EA). NOAA analyzed the effects of the maximum possible quota pursuant to the northern albacore management procedure in the EA, and the preferred alternative was selected based on that analysis. In other words, NOAA analyzed and preferred an alternative in the EA where the maximum annual baseline quota could be up to 950 mt if adopted by ICCAT through application of the management procedure within Recommendation 21-04. Additionally, the 2022 final rule that NMFS would implement any new annual baseline quotas through final rulemaking, assuming no new management measures are adopted or other relevant changes in circumstances occur; that NMFS annually would provide notice to the public in the Federal Register of the baseline northern albacore quota with any annual adjustments as allowable for over- and underharvest, as appropriate; and that NMFS would evaluate the need for any additional environmental analyses or for proposed and final rulemaking when a new quota is adopted by ICCAT and then implemented by NMFS. Because the U.S northern albacore allocation under Recommendation 23-05 is within the range analyzed in the 2022 EA, and because there are no new management measures other than the change in the baseline quota, this action is consistent with the 2022 final rule. Therefore, NMFS is proceeding directly to a final rule to implement this change in annual baseline quota.

Consistent with the northern albacore quota regulations at § 635.27(e), in this final rule and temporary quota adjustment, NMFS adjusts the U.S. annual northern albacore quota for allowable underharvest in the previous year. NMFS makes such adjustments consistent with ICCAT carryover limits, and when complete catch information for the prior year is available and finalized. The maximum underharvest that an ICCAT Contracting Party may carry forward from one year to the next is 25 percent of its baseline quota, which, for the 2023 baseline quota (711.5 mt), was 177.9 mt for the United States. For 2023, the adjusted quota was 889.4 mt (711.5 mt plus 177.9 mt of 2022 underharvest). In 2023, U.S. landings of northern albacore were 180.5 mt, which is an underharvest of 708.9 mt of the 2023 adjusted quota. This underharvest exceeds the 177.9-mt underharvest carryover limit allowed under Recommendation 21-04, which applied for 2023; therefore, only 177.9 mt may be carried forward to the 2024 fishing year. Thus, the adjusted 2024 northern albacore quota will be 1,067.3 mt (889.4 mt plus 177.9 mt underharvest) (table 1).

Table 1—2024 Northern Albacore Quota
Northern albacore quota (mt ww) | 2023 | 2024
Baseline Quota | 711.5 | 889.4
Underharvest from Previous Year | 578.8 | 708.9
Underharvest Carryover from Previous Year † | (+)177.9 | (+)177.9
Adjusted Quota (Baseline + Underharvest) | 889.4 | 1,067.3
† Allowable underharvest carryover is capped at 25 percent of the 2023 baseline quota allocation (177.9 mt ww).

North and South Atlantic Swordfish Annual Quota and Adjustment Process

North Atlantic Swordfish

Consistent with the North Atlantic swordfish quota regulations at § 635.27(c), in this final rule, NMFS adjusts the U.S. annual North Atlantic swordfish quota for allowable underharvest in the previous year. NMFS makes such adjustments consistent with ICCAT carryover limits and when complete catch information for the prior year is available and finalized. Consistent with ICCAT Recommendation 17-02 as amended by Recommendation 23-04, the U.S. North Atlantic swordfish baseline annual quota through 2024 is 2,937.6 mt dw (3,907 mt ww).

Relevant to the North Atlantic swordfish quota adjustment in this action, and as codified at § 635.27(c)(3), the maximum underharvest that the United States may carry forward from one year to the next is 15 percent of the baseline quota, which equates to 440.6 mt dw (586 mt ww). For 2023, the adjusted North Atlantic swordfish quota was 3,378.2 mt dw (2,937.6 mt dw baseline quota plus 440.6 mt dw of 2022 underharvest). In 2023, U.S. landings of North Atlantic swordfish, which includes landings and dead discards, was 1,008.3 mt dw, which is an underharvest of 2,369.9 mt dw of the 2023 adjusted quota. This underharvest exceeds the 440.6-mt dw underharvest carryover limit allowed under Recommendation 23-04; therefore, only 440.6 mt dw may be carried forward to the 2024 fishing year.

Additionally, in accordance with ICCAT Recommendation 23-04, the United States will transfer 150.4 mt dw (200 mt ww) of its North Atlantic swordfish quota to Morocco, which serves to facilitate cooperative management efforts between ICCAT contracting parties. Morocco agreed to adhere to ICCAT management measures, reporting requirements, and monitoring of the transferred quota.

Thus, the adjusted 2024 North Atlantic swordfish quota will be 3,227.8 mt dw (2,937.6 mt dw baseline quota, plus 440.6 mt dw carryover, minus 150.4 mt dw transfer to Morocco). In accordance with regulations at § 635.27(c)(1)(i), 50 mt dw of the adjusted quota will be allocated to the Reserve category for inseason adjustments and research, 300 mt dw of the adjusted quota will be allocated to the incidental category, which covers recreational landings and landings by incidental swordfish permit holders, and the remainder of the adjusted quota (2,877.8 mt dw) will be allocated to the directed category, which will be split equally between two seasons in 2024 (January through June, and July through December) (table 2).

South Atlantic Swordfish

Consistent with the South Atlantic swordfish quota regulations at § 635.27(c), NMFS adjusts the U.S. annual South Atlantic swordfish quota for allowable underharvest, if any, in the previous year. NMFS makes such adjustments, if needed, consistent with ICCAT carryover limits and when complete catch information for the prior year is available and finalized. Consistent with ICCAT Recommendation 17-03 as amended by Recommendation 22-04, the U.S. South Atlantic swordfish baseline annual quota through 2026 is 75.2 mt dw (100 mt ww), and the amount of underharvest that the United States can carry forward from one year to the next is 75.2 mt dw (100 mt ww) (table 2). In 2023 there were no landings of South Atlantic swordfish by U.S. fishermen, which is an underharvest of 75.2 mt dw of the 2023 adjusted quota. Of that underharvest, 75.2 mt dw may be carried forward to the 2024 fishing year. Under Recommendations 17-03 and 22-04, the United States continues to transfer a total of 75.2 mt dw (100 mt ww) to other countries. These transfers are 37.6 mt dw (50 mt ww) to Namibia, 18.8 mt dw (25 mt ww) to Côte d'Ivoire, and 18.8 mt dw (25 mt ww) to Belize. Thus, the adjusted 2024 South Atlantic swordfish quota will be 75.2 mt dw.

Table 2—2024 North and South Atlantic Swordfish Quotas
North Atlantic swordfish quota (mt dw) | 2023 | 2024
Baseline Quota | 2,937.6 | 2,937.6
International Quota Transfers * | N/A | (−)150.4
Underharvest from Previous Year | 2,371.3 | 2,369.9
Underharvest Carryover from Previous Year † | (+)440.6 | (+)440.6
Adjusted Quota (Baseline + Carryover + Transfer) | 3,378.2 | 3,227.8
Quota Allocation:
Directed Category | 3,028.2 | 2,877.8
Incidental Category | 300 | 300
Reserve Category | 50 | 50
South Atlantic swordfish quota (mt dw) | 2023 | 2024
Baseline Quota | 75.2 | 75.2
International Quota Transfers ** | (−)75.2 | (−)75.2
Underharvest from Previous Year | 75.2 | 75.2
Underharvest Carryover from Previous Year † | 75.2 | 75.2
Adjusted quota (Baseline + Transfers + Carryover) | 75.2 | 75.2
* Under ICCAT Recommendation 23-04, the United States transferred 150.4 mt dw (200 mt ww) to Morocco.
† Allowable underharvest carryover is capped at 15 percent of the baseline quota allocation (440.6 mt dw) for the North Atlantic and 75.2 dw (100 mt ww) for the South Atlantic.
** Under ICCAT Recommendations 17-03 and 22-04, the United States transfers 75.2 mt dw (100 mt ww) annually to Namibia (37.6 mt dw, 50 mt ww), Côte d'Ivoire (18.8 mt dw, 25 mt ww), and Belize (18.8 mt dw, 25 mt ww).

Bluefin Tuna Annual Quota and Adjustment Process

Consistent with the regulations regarding annual bluefin tuna quota adjustment at § 635.27(a), in this final rule, NMFS announces the addition of available underharvest in the bluefin tuna Reserve category. Specifically, the adjusted 2024 Reserve category quota is now 161.5 mt.

In 2022, NMFS implemented relevant provisions of an ICCAT western Atlantic bluefin tuna recommendation (Recommendation 21-07) in a final rule (87 FR 33049, June 1, 2022). That rulemaking implemented the annual U.S. baseline quota of 1,316.1 mt, plus an additional 25 mt to account for bycatch related to pelagic longline fisheries in the Northeast Distant gear restricted area (NED), for a total quota of 1,341.1 mt. At the 2022 annual meeting, a management procedure was implemented for bluefin tuna (Recommendation 22-09). This management procedure set the western Atlantic bluefin tuna TAC for 2023 through 2025 at the same level as 2021 (Recommendation 22-10). As such, the total annual U.S. bluefin tuna quota for 2024 remains 1,341.1 mt (see § 635.27(a)). Consistent with Recommendation 22-10, the maximum underharvest that the United States can carry forward from one year to the next is 10 percent of its total annual quota, which equates to 134.1 mt.

In 2023, the adjusted U.S. quota was 1,447.7 mt, and the U.S. catch, including landings and dead discards, totaled 1,311.3 mt. Thus, the 2023 underharvest was 136.4 mt, which exceeds the underharvest carryover limit (134.1 mt). As such, the United States is carrying forward the allowable 134.1 mt underharvest to 2024. Per § 635.27(a) this underharvest augments the Reserve category quota. The 2024 Reserve category quota of 38.2 mt was recently adjusted to 27.4 mt (89 FR 58074, July 17, 2024). Thus, the adjusted 2024 Reserve category quota is now, through this action, 161.5 mt (27.4 mt plus 134.1 mt underharvest) (table 3).

Table 3—2024 Bluefin Tuna Quota
Bluefin tuna quota (mt ww) | 2023 | 2024
Baseline Quota | 1,316.1 | 1,316.1
Total Quota (Baseline Quota + Bycatch Allocation) * | 1,341.1 | 1,341.1
Underharvest from Previous Year | 106.5 | 136.4
Underharvest Carryover from Previous Year † | (+)106.5 | (+)134.1
Adjusted Quota (Total quota + Carryover) | 1,447.7 | 1,475.2
Baseline Reserve Category Quota | ‡ 38.2 | ** 38.2
Adjusted Reserve Category Quota (Reserve quota + Carryover) | 133.9 | 161.5
Values in this table are subject to rounding error.
* The United States is allocated an additional 25 mt to account for bycatch related to pelagic longline fisheries in the Northeast Distant gear restricted area (NED).
† Allowable underharvest carryover is capped at 10 percent of the total annual quota (134.1 mt ww).
‡ The 2023 baseline Reserve category quota of 38.2 mt was adjusted to 27.4 mt (88 FR 48136, July 26, 2023).
** The 2024 baseline Reserve category quota of 38.2 mt was adjusted to 27.4 mt (89 FR 58074, July 17, 2024).

Classification

NMFS is issuing this rule pursuant to 305(d) of the Magnuson-Stevens Act (16 U.S.C. 1855(d)) and regulations at 50 CFR part 635. This final rule has been determined to be not significant for purposes of Executive Order 12866.

The Assistant Administrator for NMFS (AA) has determined that this final rule is consistent with the 2006 Consolidated HMS FMP and its amendments, ATCA, and other applicable law.

The AA finds that pursuant to 5 U.S.C. 553(b)(B), it is unnecessary to provide prior notice of, and an opportunity for public comment on, this action for the following reasons. The rulemaking processes for amendment 13 to the 2006 Consolidated HMS FMP (87 FR 59966, October 3, 2022), the 2022 Atlantic bluefin tuna and northern albacore quota rule (87 FR 33049, June 1, 2022), and the 2016 North and South Atlantic Swordfish Quota Adjustment Rule (81 FR 48719, July 26, 2016) specifically provided prior notice of, and accepted public comment on, the formulaic quota adjustment processes for the northern albacore, Atlantic bluefin tuna, and swordfish fisheries and the manner in which they occur. The June 1, 2022, final rule also anticipated that NMFS would implement U.S. northern albacore quotas as recommended by ICCAT in accordance with the management procedure, up to the analyzed maximum baseline quota of 950 mt. The baseline quota would remain at 711.5 mt annually until changed by ICCAT. NMFS anticipated implementing any new baseline quotas through final rulemaking, assuming no new management measures are adopted or other relevant changes in circumstances occur. Additionally, consistent with current practice, NMFS annually would provide notice to the public in the Federal Register of the baseline northern albacore quota with any annual adjustments as allowable for over- and underharvest, as appropriate. NMFS would evaluate the need for any additional environmental analyses or for proposed and final rulemaking when a new quota is adopted by ICCAT and implemented by NMFS. These processes have not changed, and the application of these formulas to the relevant quotas in this temporary final rule is a routine action that does not have discretionary aspects requiring additional agency consideration. Additionally, similar actions to adjust the quotas based on the previous year's underharvest occur annually, and the regulated community expects such adjustments in 2024. For all of these reasons, it is unnecessary to provide prior notice and an additional opportunity for public comment on this action.

There is good cause under 5 U.S.C. 553(d)(3) to waive the 30-day delay in the date of effectiveness and to make the rule effective upon the date of publication in the Federal Register. As described above, this rule is a routine action that applies existing quota adjustment formulas, and that the regulated community anticipates annually and does not need time to prepare for. The 2024 fisheries for northern albacore, North and South Atlantic swordfish, and bluefin tuna opened on January 1, 2024. NMFS monitors northern albacore, North and South Atlantic swordfish, and bluefin tuna annual catch and uses the previous year's catch data to calculate the legally allowable quotas for the current year. However, these adjustments to the 2024 quotas could not occur earlier in the year because the final 2023 landings data—which first must collected, compiled, and submitted in accordance with ICCAT reporting requirements—were not available until late July. Given that these fisheries are currently open and permit-holders are actively fishing, delaying the effective date of this rule's quota adjustments could lead to premature closure of one or more affected fisheries if the unadjusted quota limit is reached within the next 30 days. Such an event would negatively affect the regulated fisheries' reasonable opportunity to catch the available quotas, contrary to Magnuson-Stevens Act requirements and overall purpose of sound conservation and management of fisheries—including highly migratory species—in a manner that achieves optimum yield. Furthermore, delaying the effective date of this rule would delay the application of North and South Atlantic swordfish quota transfers pursuant to ICCAT obligations for U.S. quota limits, contrary to requirements under ATCA. It would also delay NMFS' ability to transfer quota inseason, as needed, from the bluefin Reserve category to other fishing categories to ensure fishing opportunities and avoid premature fishery closures. As with the quota adjustments, such a delay would be contrary to the Magnuson-Stevens Act requirement to allow U.S. vessels reasonable opportunity to harvest highly migratory species allocations and quotas under relevant international fishery agreements such as the International Convention for the Conservation of Atlantic Tunas.

This action does not contain a collection-of-information requirement for purposes of the Paperwork Reduction Act.

Because prior notice and opportunity for public comment are not required for this rule by 5 U.S.C. 553, or any other law, the analytical requirements of the Regulatory Flexibility Act, 5 U.S.C. 601 et seq., are inapplicable.

Authority: 16 U.S.C. 971 et seq. and 1801 et seq.

Dated: September 16, 2024.
Samuel D. Rauch III,
Deputy Assistant Administrator for Regulatory Programs, National Marine Fisheries Service.

For the reasons set out in the preamble, NMFS amends 50 CFR part 635 as follows:

PART 635—ATLANTIC HIGHLY MIGRATORY SPECIES

1. The authority citation for part 635 continues to read as follows:

Authority: 16 U.S.C. 971 et seq.; 16 U.S.C. 1801 et seq.

2. In § 635.27, revise paragraph (e)(1) to read as follows:

§ 635.27 Quotas.

* * * * *

(e) * * *

(1) Annual quota. Consistent with ICCAT recommendations, the ICCAT northern albacore management procedure, and domestic management objectives, the baseline annual quota, before any adjustments, is 889.4 mt. The total quota, after any adjustments made per paragraph (e)(2) of this section, is the fishing year's total amount of northern albacore tuna that may be landed by persons and vessels subject to U.S. jurisdiction.

* * * * *

[FR Doc. 2024-21507 Filed 9-19-24; 8:45 am]

BILLING CODE 3510-22-P